DEPARTMENT OF AGRICULTURE

Commodity Credit Corporation

Information Collection: Assignments of Payment and Joint Payment Authorization

AGENCY: Commodity Credit Corporation, USDA.

ACTION: Notice; request for comments.

SUMMARY: In accordance with the Paperwork Reduction Act of 1995, the Commodity Credit Corporation (CCC) is seeking comments from all interested individuals and organizations on the extension of a currently approved information collection. The information collection is to allow farmers to voluntarily assign their payment to a third party and to authorize a joint payment.

DATES: We will consider comments that we receive by June 29, 2009.

ADDRESSES: We invite you to submit comments on this notice. In your comments, include the date, volume and page number of this issue of the Federal Register. You may submit comments by any of the following methods:

• Mail: Farm Service Agency, USDA, ATTN: Deborah Simmons, Financial Specialist, FMD, Stop 0561, 1400 Independence Ave., SW., Washington, DC.

• E-mail: Send comment to: Debbie.Simmons@wdc.usda.gov.

• Fax: (703) 305-1144.

You may also send comments to the Desk Officer for Agriculture, Office of Information and Regulatory Affairs, Office of Management and Budget, Washington, DC, 20503.

Copies of the information collection may be obtained from Deborah Simmons at the above address.

FOR FURTHER INFORMATION CONTACT: Deborah Simmons, Financial Specialist, (703) 305-1309.

SUPPLEMENTARY INFORMATION:

Title: Assignment of Payments and Joint Payment Authorization.

Forms: CCC-36-Assignment of Payment, CCC-37-Joint Payment. Authorization, CCC-251-Notice of Assignment, and CCC-252-Instrument of Assignment.

OMB Control Number: 0560-0183.

Type of Request: Extension.

Abstract: Section 4(j) of the Commodity Credit Corporation Charter Act (15 U.S.C. 714b (j)) authorizes CCC to determine the character of and the necessity for its obligations and expenditures and the manner in which they shall be incurred, allowed, and paid. Pursuant to this authority, CCC allows producers to assign certain payments to a third party. Any such assignment must be made in accordance with the regulations at 7 CFR part 1404. There are no regulations governing joint payments, but this service is offered as a result of public requests for this type of payment option. There are no changes to the information collection since the last OMB approval.

Estimate of Respondent Burden: Public reporting burden for this collection of information is estimated to average 10 minutes per response for CCC-36, CCC-37, and CCC-251, and 5 minutes per response for CCC-252.

Respondents: Participants in FSA or CCC farm programs.

Estimated Number of Respondents: 70,900 (50,000 for CCC-36; 20,000 for CCC-37, and 450 for CCC-251 and CCC-252).

Estimated Number of Responses per Respondent: 1.

Estimated Total Annual Burden on Respondents: 11,778.

We are requesting comments on all aspects of this information collection including the following to help us to:

(1) Evaluate whether the collection of information is necessary for the proper performance of the functions of the agency, including whether the information will have practical utility;

(2) Evaluate the accuracy of the agency's estimate of the burden of the collection of information, including the validity of the methodology and assumptions used;

(3) Enhance the quality, utility and clarity of the information to be collected;

(4) Minimize the burden of the collection of information on those who are to respond, including through the use of appropriate automated, electronic, mechanical, or other technological collection techniques or other forms of information technology.

All responses to this notice will be summarized and included in the request for Office of Management and Budget approval. All comments will also become a matter of public record.

Signed at Washington, DC, on April 22, 2009.
Dennis J. Taitano,
Acting Executive Vice President, Commodity Credit Corporation.

[FR Doc. E9-9722 Filed 4-28-09; 8:45 am]

BILLING CODE 3410-05-P